DEPARTMENT OF COMMERCE

National Oceanic and Atmospheric Administration

RIN 0648-XG119

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Atlantic Mackerel, Squid, and Butterfish Advisory Panel will hold a meeting.

DATES: The meeting will be held on Friday, April 13, 2018, beginning at 9 a.m. and will conclude by 2 p.m. For agenda details, see SUPPLEMENTARY INFORMATION.

ADDRESSES: The meeting will be held via webinar with a telephone-only audio connection: http://mafmc.adobeconnect.com/msb-ap-2018/. Telephone instructions are provided upon connecting, or the public can call direct: 800-832-0736, Rm: *7833942#.

Council address: Mid-Atlantic Fishery Management Council, 800 N State Street, Suite 201, Dover, DE 19901; telephone: (302) 674-2331 or on their website at www.mafmc.org.

FOR FURTHER INFORMATION CONTACT: Christopher M. Moore, Ph.D., Executive Director, Mid-Atlantic Fishery Management Council, telephone: (302) 526-5255.

SUPPLEMENTARY INFORMATION: The purposes of the meeting include: (1) To create a Fishery Performance Report by the Council's Atlantic Mackerel, Squid, and Butterfish (MSB) Advisory Panel. This report facilitates structured input from the Advisory Panel members for the MSB specifications process for the Council and its Scientific and Statistical Committee (SSC), (2) gather Advisory Panel input regarding rebuilding options and other management measures for Atlantic mackerel, including the river herring and shad catch cap.

Special Accommodations

The meeting is physically accessible to people with disabilities. Requests for sign language interpretation or other auxiliary aid should be directed to M. Jan Saunders, (302) 526-5251, at least 5 days prior to any meeting date.

Dated: March 22, 2018.
Jeffrey N. Lonergan,
Acting Deputy Director, Office of Sustainable Fisheries, National Marine Fisheries Service.

[FR Doc. 2018-06088 Filed 3-26-18; 8:45 am]

BILLING CODE 3510-22-P